GENERAL SERVICES ADMINISTRATION

[OMB Control No. 3090-0043]

Submission for OMB Review; Comment Request Entitled Appraisal of Fair Annual Parking Rate Per Space for Standard Level User Charge (GSA Form 3357)

AGENCY: General Services Administration (GSA).

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement Appraisal of Fair Annual Parking Rate Per Space for Standard Level User Charge (GSA Form 3357).

DATES: Comments may be submitted on or before October 22, 2001.

FOR FURTHER INFORMATION CONTACT: Robert A. Yevoli, Public Buildings Service, GSA (202) 219-1403.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0043, concerning Appraisal of Fair Annual Parking Rate Per Space for Standard Level User Charge (GSA Form 3357). Form 3357 is needed by GSA contract and staff appraisers who use the form for estimating parking rates assessed on Federal agencies occupying space in GSA owned or controlled buildings.

B. Annual Reporting Burden

Respondents: 260.

Annual Responses: 1,300.

Average Hours Per Response: 1.6.

Burden Hours: 2,080.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0043, Appraisal of Fair Annual Parking Rate Per Space for Standard Level User Charge (GSA Form 3357), in all correspondence.

Dated: August 13, 2001.
David A. Drabkin,
Deputy Associate Administrator, Office of Acquisition Policy.

[FR Doc. 01-21064 Filed 8-20-01; 8:45 am]

BILLING CODE 6820-61-M